DEPARTMENT OF HEALTH AND HUMAN SERVICES

Centers for Disease Control and Prevention

[60Day-04-0497]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandi Gambescia, CDC Assistant Reports Clearance Officer, 1600 Clifton Road, MS-E11, Atlanta, GA 30333 or send an e-mail to omb@cdc.gov. Written comments should be received within 60 days of this notice.

Proposed Project

Evaluating CDC Funded Health Department HIV Prevention Programs, Partner Counseling and Referral Services, OMB No. 0920-0497—Extension—National Center for HIV, STD, and TB Prevention (NCHSTP), Centers for Disease Control and Prevention (CDC).

Background

CDC is requesting approval for the continued use of two currently approved forms under OMB No. 0920-0497, for collecting HIV partner counseling and referral services (PCRS) program data. The current forms expire October 31, 2004. This request is for a 12-month clearance past this date. The extension of the current forms will allow grantees to continue to collect PCRS data as they transition to the new Program Evaluation and Monitoring System (PEMS) over the next year.

CDC funds HIV prevention projects in 65 public health agencies (50 states, 6 cities, 7 territories, Washington, DC, and Puerto Rico) through cooperative agreements. PCRS is one of a number of public health strategies supported by CDC that is designed to control and prevent the spread of HIV.

A fundamental feature of PCRS is informing current and past partners of an HIV-infected person that they have been identified as a sex or injection-drug-paraphernalia-sharing partner, and advising them to be tested for HIV. Informing partners of their exposure to HIV is confidential, and partners are not told who reported their name, or when the reported exposure occurred. Notified partners, who may not have suspected their risk, can choose whether to have HIV counseling and testing. Those who choose to be tested and are found to be HIV positive can receive a medical evaluation, treatment, and prevention services designed to modify their high risk behavior, thereby possibly reducing the number of new HIV infections.

HIV prevention programs that conduct PCRS interventions can reach significant numbers of persons at very high risk of contracting HIV. The CDC requires aggregate PCRS program data to determine if interventions are being delivered as intended, gauge the degree to which program performance indicator targets are being achieved, and help agencies improve their programs to better deliver effective PCRS. Until grantees transition to PEMS, it is essential that they be allowed to continue to collect aggregate PCRS data using the existing forms.

Each health department funded to conduct PCRS will prepare and submit aggregate PCRS data to the CDC annually. Completion of two data collection forms is necessary for evaluation of aggregate PCRS data, and it is estimated that one hour is needed to complete each form; therefore, 65 health departments × 2 responses × 1 hour = 130 hours. There is no cost to respondents.

Estimates of Annual Burden
Respondents | No. of respondents | No. of responses per respondent | Average burden per response (in hours) | Total burden (in hours)
Health Departments | 65 | 2 | 1 | 130
Total |  |  |  | 130

Dated: August 4, 2004.
Alvin Hall,
Director, Management Analysis and Services Office, Centers for Disease Control and Prevention.

[FR Doc. 04-18332 Filed 8-10-04; 8:45 am]

BILLING CODE 4163-18-P